SMALL BUSINESS ADMINISTRATION

[License No. 03/03-0256]

RLJ Credit Opportunity Fund I, L.P.: Notice Seeking Exemption Under Section 312 of the Small Business Investment Act, Conflicts of Interest

Notice is hereby given that RLJ Credit Opportunity Fund I, L.P., 3 Bethesda Metro Center, Suite 1000, Bethesda, MD 20814, a Federal Licensee under the Small Business Investment Act of 1958, as amended (“the Act”), in connection with the financing of a small concern, has sought an exemption under Section 312 of the Act and Section 107.730, Financings which Constitute Conflicts of Interest of the Small Business Administration (“SBA”) Rules and Regulations (13 CFR 107.730). RLJ Credit Opportunity Fund I, L.P. proposes to provide debt and equity financing to Media Source, Inc., 7858 Industrial Pkwy., Plain City, OH 43064. The proceeds will be used to partially finance the acquisition of Media Source, Inc.

The financing is brought within the purview of § 107.730(a)(1) of the Regulations because RLJ Equity Partners Fund I, L.P., an Associate of RLJ Credit Opportunity Fund I, L.P., owns more than ten percent of Media Source, Inc., and therefore this transaction is considered a financing to an Associate requiring SBA prior written exemption.

Notice is hereby given that any interested person may submit written comments on the transaction, within fifteen days of the date of this publication, to the Associate Administrator for Investment, U.S. Small Business Administration, 409 Third Street SW., Washington, DC 20416.

Dated: June 11, 2014.
Javier E. Saade,
Associate Administrator for Office of Investment and Innovation.

[FR Doc. 2014-15140 Filed 6-26-14; 8:45 am]

BILLING CODE P